DEPARTMENT OF COMMERCE

[Docket No. 200227-0067]

RIN 0605-XD005

Announcement of Departmental Web Portal for Guidance Documents

AGENCY: Commerce.

ACTION: Notice.

SUMMARY: In accordance with Executive Order 13891, “Promoting the Rule of Law Through Improved Agency Guidance Documents” (84 FR 55235), the Department of Commerce (Department) announces the launch of a dedicated web page for the Department's guidance documents.

DATES: The Department of Commerce's web page for guidance documents was launched on February 28, 2020.

ADDRESSES: The Department of Commerce's web page for guidance documents is located at www.commerce.gov/guidance.

FOR FURTHER INFORMATION CONTACT: Xenia Kler, Office of the Assistant General Counsel for Legislation and Regulation, 202-482-5354, or via email xkler1@doc.gov.

SUPPLEMENTARY INFORMATION:

Background

On October 9, 2019, the President issued Executive Order 13891, which addresses the issuance and treatment of agency guidance documents. The Executive Order seeks to ensure that when federal agencies issue guidance documents, the agencies: Do not treat those guidance documents as imposing binding obligations on the public; take public input into account in formulating significant guidance documents; and make the guidance documents readily available to the public.

The Executive Order defines “guidance document” as “an agency statement of general applicability, intended to have future effect on the behavior of regulated parties, that sets forth a policy on a statutory, regulatory, or technical issue, or an interpretation of a statute or regulation.” It further distinguishes guidance documents from, among other things, rules promulgated under the Administrative Procedure Act (APA) (5 U.S.C. 553), which, as authorized by statute, may bind the public, and agency adjudications conducted under the APA (5 U.S.C. 554), which may bind parties on a case-by-case basis. Guidance documents may help clarify existing obligations, but unlike statutes, regulations, and adjudications, cannot themselves impose obligations on the public.

As part of the government-wide effort to ensure the availability of agency guidance documents, Executive Order 13891 and an associated implementing memorandum from the Office of Management and Budget (OMB Memorandum M-20-02) direct agencies to establish a single website containing, or linking to, all of an agency's guidance documents currently in effect. Accordingly, the Department announces that it is now providing access to its guidance documents through a centralized web portal at www.commerce.gov/guidance.

The Department, through its component bureaus, issues a variety of guidance documents in an effort to assist businesses and the public in understanding their obligations, as well as agency procedures, under existing statutes and regulations. These documents are intended to provide information and be helpful to the public and none are intended to impose new or additional obligations. The Department's new web portal will serve as a central hub for information on the Department's guidance documents and provides links to the corresponding guidance web pages maintained by individual bureaus of the Department. The Department will, to the greatest extent possible, make all of the guidance documents currently in effect across the Department and its bureaus accessible through this web portal. Note that many of these guidance documents have been, and to ensure maximum public accessibility will continue to be, also available through the relevant subject matter section of the website of the bureau that issued them.

Dated: February 27, 2020.
Beth M. Grossman,
Assistant General Counsel for Legislation and Regulation.

[FR Doc. 2020-04386 Filed 3-3-20; 8:45 am]

BILLING CODE 3510-12-P